DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of March 28, 2016 through April 29, 2016.

In order for an affirmative determination to be made for workers of a primary firm and a certification issued regarding eligibility to apply for worker adjustment assistance, each of the group eligibility requirements of Section 222(a) of the Act must be met.

I. Under Section 222(a)(2)(A), the following must be satisfied:

(1) a significant number or proportion of the workers in such workers' firm have become totally or partially separated, or are threatened to become totally or partially separated;

(2) the sales or production, or both, of such firm have decreased absolutely; and

(3) One of the following must be satisfied:

(A) imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) a significant number or proportion of the workers in such workers' firm have become totally or partially separated, or are threatened to become totally or partially separated;

(2) One of the following must be satisfied:

(A) there has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
85,013 | TRW Integrated Chassis Systems, LLC, North American Braking Division, TRW Automotive, Adecco and DM Burr | Saginaw, MI | January 10, 2013.
85,439 | Qualfon Data Services Group, LLC, 0002 Division, Catskill Consulting Services, LLC | Deposit, NY | July 22, 2013
85,466 | GrafTech International Holdings, Inc., Advanced Graphite Materials (AGM) Division | Emporium, PA | August 5, 2013.
85,505 | Red Shield Acquisition, Old Town Fuel and Fiber | Old Town, ME | August 25, 2013.
85,885 | HCL America Inc., Business Services Division | Cary, NC | March 18, 2014.
85,897 | American Cotton Growers, American Textile Holdings, LLC, Plains Cotton Cooperative Association | Littlefield, TX | February 28, 2015.
85,975 | Regulator Technologies Tulsa, LLC, Emerson, Aerotek | Tulsa, OK | April 30, 2014.
86,003 | CompuCom, Elevate Division | Bentonville, AR | May 8, 2014.
86,003A | CompuCom, Non-Elevate Division | Bentonville, AR | May 8, 2014.
90,023 | WebCo Industries, Inc., Oklahoma Carbon | Sand Springs, OK | January 1, 2014.
90,231 | Express Group Holdings, LLC, Tulsa Division, Switchgear Search and Recruiting, Acknowledge Staffing | Tulsa, OK | January 1, 2014.
91,038 | GC Services, Operator Services Project | El Paso, TX | October 7, 2014.
91,093 | S and Y Industries, Inc | Winfield, KS | October 30, 2014.
91,279 | Allegheny Ludlum LLC, ATI Flat Rolled Products, Bagdad Operations, Allegheny Technologies, etc | Bagdad, PA | January 4, 2015.
91,335 | Climax Portable Machine Tools, Inc., IGP, Robert Half Management Resources, Express Employment Professional | Newberg, OR | January 12, 2015.
91,385 | Tool-Rite, Inc | Springboro, PA | January 25, 2015.
91,402 | Microfibres, Inc | Pawtucket, RI | January 28, 2015.
91,416 | General Mills Operations, LLC, General Mills, Inc | Lodi, CA | February 1, 2015.
91,550 | Microfibres, Inc., Monroe Staffing | Winston Salem, NC | March 3, 2015.
91,555 | Time Machine, Inc | Polk, PA | March 27, 2016.
91,565 | Bridgestone Americas Tire Operations LLC, Firestone AG Division, Vonachen Services, Inc., etc | Des Moines, IA | February 17, 2015.

The following certifications have been issued. The requirements of Section 222(a)(2)(B) (shift in production or services) of the Trade Act have been met.

TA-W No. | Subject firm | Location | Impact date
85,009 | Atos, Application Technical Services (ATS) | New York, NY | January 8, 2013.
85,016 | Mid-West Textile, El Paso Staffing C/O JD Factors LLC | El Paso, TX | January 14, 2013.
85,035B | Hewlett Packard Company, LES Platform Enablement Lab, LaserJet Enterprise Solutions, Printing, etc | Ft. Collins, CO | January 24, 2013.
85,183 | Hyundai America Shipping Agency, Inc., Hyundai Merchant Marine America, Inc., Business Contract Solutions | Itasca, IL | March 27, 2013.
85,195 | Stream Global Services, Inc., Convergys Corporation, Stream International, Inc | Sergeant Bluff, IA | April 1, 2013.
85,205 | Digital Domain 3.0, Inc | Los Angeles, CA | April 2, 2013.
85,343 | Risk Specialists Companies Insurance Agency, Inc., Lexington Insurance Underwriting Support, Property Casualty, etc | Houston, TX | May 29, 2013.
85,772 | Bank of America, Trade Finance Operations | Los Angeles, CA | January 20, 2014.
85,892 | Dana Sealing Manufacturing, LLC, Power Technologies Division, Dana Holding Corporation, Manpower | Robinson, IL | March 20, 2014.
85,941 | CareFusion Resources, LLC, Technical Service Center, Extended Hours Team, CareFusion Corporation, etc | San Diego, CA | April 14, 2014.
85,966 | Sirius Computer Solutions, Inc., SCS Holdings I, Inc | San Antonio, TX | April 27, 2014.
86,100 | Novartis Consumer Health, Inc., OTC (Over-The-Counter) Division, GlaxoSmithKline Consumer, Kelly, etc | Lincoln, NE | July 30, 2015.
86,100A | Novartis Consumer Health, Inc., Animal Health Division, GlaxoSmithKline Consumer, Randstad, etc | Lincoln, NE | June 16, 2014.
90,001 | Midland Credit Management, San Diego Call Center, Encore Capital Group | San Diego, CA | January 1, 2014.
90,006 | Kanzaki Specialty Papers, Inc., United Personnel | Ware, MA | January 1, 2014.
90,052 | Dyno Nobel Inc., Incitec Pivot Limited | Donora, PA | January 1, 2014.
90,246 | Intel Corporation, Communications and Devices Group | Allentown, PA | January 1, 2014.
90,303 | Hewlett Packard Company, Enterprise Services Division, Midrange Server Services | Plano, TX | January 1, 2014.
90,305 | Hewlett Packard Enterprise, ES Business Process Services Fulfillment and Logistics Division, XPO | Des Moines, IA | January 1, 2014.
90,305A | Hewlett Packard Enterprise, ES Business Process Services Fulfillment and Logistics Division, XPO | Des Moines, IA | January 1, 2014.
90,311 | NTT Data, Inc., NTT Data Corporation | Montpelier, VT | January 1, 2014.
90,335 | Keokuk Steel Castings, Matrix Metals LLC, Taske Force | Keokuk, IA | January 1, 2014.
91,011 | Brown Brothers Harriman and Company, Forum Group, Marchon Partners | Jersey City, NJ | September 20, 2014.
91,051 | Carter Fuel Systems, Crowne Group LLC, Aerotek, Crossfire Group | Logansport, IN | October 1, 2014.
91,081 | Print Media LLC, YP Southeast Advertising & Publishing, DCR Workforce | Tucker, GA | October 23, 2014.
91,103 | Avery Dennison Corporation, Retail Branding, Information Solutions Division | Covina, CA | November 3, 2014.
91,114 | Pickard, Inc | Antioch, IL | November 5, 2014.
91,117 | Altairnano, Continental Design and Engineering, Strategic Technical Solutions, etc | Anderson, IN | November 8, 2014.
91,117A | Altairnano, Randstad F&A and Accountemps | Reno, NV | November 8, 2014.
91,118 | Zurn Industries, LLC, Rexnord-Zurn Holdings, Inc | Erie, PA | November 8, 2014.
91,119 | TAPI Puerto Rico, Teva Pharmaceuticals Industries LTD, Adecco, MSSS, etc | Guayama, PR | November 9, 2014.
91,124 | ARM, Inc., ARM Holding PLC, Development and Solutions Group, The Creative Group | Olympia, WA | November 9, 2014.
91,126 | Thomson Reuters, Tax and Accounting, Thomson Reuters U.S. LLC, Pontoon Solutions | Valhalla, NY | November 6, 2014.
91,128 | AirDye Solutions LLC | Harrisonburg, VA | November 3, 2014.
91,144 | Micron Technology, Inc | Aguadilla, PR | December 4, 2015.
91,144A | U.S. Security Associates, Inc., Avnet, Future Electronics, GCA Service Group, Kelly Services | Aguadilla, PR | November 16, 2014.
91,150 | Avery Products Corporation, CCL Industries, Ambassador Personnel Inc | Meridian, MS | November 17, 2014.
91,167 | De-Sta-Co Industries, Dover Division, Reliance One | Auburn Hills, MI | October 27, 2014.
91,184 | BI Technologies, Advanced Components Division, Kelly Services | Fullerton, CA | November 30, 2014.
91,187 | SIHI Pumps, Inc., SIHI Groups | Grand Island, NY | December 1, 2014.
91,208 | Lexmark International, Inc., Information Technology, Allegis Group Services | Lexington, KY | December 9, 2014.
91,215 | QBE Americas, Inc., QBE Holdings, Inc | Sun Prairie, WI | December 3, 2014.
91,262 | WHG LLC, Wyndham Hotel Group, Wyndham Worldwide | Aberdeen, SD | December 22, 2014.
91,300 | QBE Americas, Inc., Field OPS—Agri Processing Group, QBE Holdings, Inc | Greenwood Village, CO | January 6, 2015.
91,307 | LaCie Ltd, Aerotek and Ranstad | Tigard, OR | January 7, 2015.
91,354 | Physician Reliance, LLC, US Oncology | Richardson, TX | January 15, 2015.
91,355 | Ortho Organizers, Inc., Henry Schein, Inc., Marquee Staffing and Ultimate Staffing | Carlsbad, CA | January 15, 2015.
91,374 | Bose Corporation, Global Sales Division, Randstad | Westborough, MA | January 21, 2015.
91,388 | L-Com, Inc., Connector Holding, Inc., Tech Needs North, Inc., etc | North Andover, MA | January 26, 2015.
91,418 | OpSec Security, Inc., OpSec Security Group, Inc | Robbinsville, NJ | February 2, 2015.
91,445 | Fenner Dunlop LLC, Time Staffing Inc | Port Clinton, OH | June 20, 2015.
91,445A | Cardinal Services Inc., Fenner Dunlop LLC | Port Clinton, OH | January 19, 2015.
91,458 | Siemens Energy, Inc., PG DG PMF Division, Belcan Engineering | Mount Vernon, OH | February 8, 2015.
91,464 | Roland Organ Corporation, Rodgers Instruments Corporation, Express Services, etc | Hillsboro, OR | February 12, 2015.
91,476 | Pall Corporation, Finance Organization, Accounts Payable and General Ledger | Port Washington, NY | September 13, 2015.
91,477 | X6D USA, Inc., X6D Limited | Beaverton, OR | February 17, 2015.
91,491 | Alcoa Inc., Warrick Operations, Global Primary Products, Icon, Manpower | Newburgh, IN | February 5, 2015.
91,492 | mGage, LLC, Network Operations Center, The Berry Company, LLC | Los Angeles, CA | February 19, 2015.
91,497 | Caldwell Hardware Co., Caldwell Manufacturing Company | Alderson, WV | February 18, 2015.
91,508 | Dematic Corporation, Aerotek and Tradesman International | Grand Rapids, MI | February 16, 2015.
91,519 | National Oilwell Varco, LP, Rig Systems, Offshore Division, iSymphony, LLC | Houma, LA | February 25, 2015.
91,528 | DTNA Cleveland Truck Manufacturing Plant, Daimler Trucks North America | Cleveland, NC | August 20, 2015.
91,540 | ET Manufacturing Corporation | Sartell, MN | March 2, 2015.
91,541 | Bard Medical—Rochester, Bard Medical Division, C.R. Bard Inc., Masterson Staffing, etc | Stewartville, MN | March 2, 2015.
91,542 | UCI-FRAM Group, LLC/Autolite, Geometric Results Inc | Fostoria, OH | March 3, 2015.
91,549 | W.W. Grainger, Inc., Janesville Facility Division, Peoplescout.com | Janesville, WI | March 3, 2015.
91,551 | UTI Worldwide, DSV, Enterprise Information Technology, HCL | Portland, OR | March 4, 2015.
91,554 | Polar Tank Trailer, American Industrial Partners | Holdingford, MN | March 4, 2015.
91,557 | Hutchinson Technology Incorporated | Hutchinson, MN | March 4, 2015.
91,563 | Measurement Specialties, Inc, TE Connectivity, Manpower | Beavercreek, OH | March 7, 2015.
91,581 | Ocwen Loan Servicing, LLC, Ocwen Financial Corporation | Waterloo, IA | May 14, 2016.
91,581A | Kelly Vendor Management Services and Eurest Dining Service, Ocwen Loan Servicing, LLC, Ocwen Financial Corporation | Waterloo, IA | March 11, 2015.
91,582 | Hologic, Inc., IQ Pipeline, Microtech Staffing and Connexion Systems and Engineering | Bedford, MA | March 11, 2015.
91,584 | Dover Energy, Inc., Blackmer Division | Grand Rapids, MI | March 13, 2015.
91,589 | Fujitsu America, Inc., Retail Management Services, Fujitsu Limited | Sunnyvale, CA | March 14, 2015.
91,591 | Eaton Corporation, Industrial Sector, Hydraulics Group | Spencer, IA | March 14, 2015.
91,606 | Big Heart Pet Brands, Inc., Research & Development Department | Terminal Island, CA | March 17, 2015.
91,624 | International Business Machines Corporation (IBM), Software Platform Management Services Group, etc | Armonk, NY | March 23, 2015.
91,633 | Maersk Agency USA, Inc., Marine Operations Division | Charlotte, NC | March 25, 2015.
91,635 | Emerson Process Management, Rosemount Inc., Rosemount Flow Division, Emerson Electric Company, Volt | Eden Prairie, MN | March 28, 2015.
91,653 | Royal Ingredients, LLC, ED&F Man, Aerotek, Lab Support, Horizon Systems, Jobs, 1st Choice, etc | Swedesboro, NJ | March 31, 2015.
91,656 | SL Montevideo Technology, Inc., Aerotek, Spartan Staffing | Montevideo, MN | April 1, 2015.
91,661 | E.W. Bowman, Inc | Uniontown, PA | April 4, 2015.
91,669 | Universal Oil Products, Honeywell International Performance Materials and Technologies, etc | Des Plaines, IL | April 5, 2015.
91,680 | Ketchum, Inc., Omnicom Group, Inc., Finance Department | Pittsburgh, PA | April 8, 2015.
91,703 | Polar Tank Trailer, American Industrial Partners | Springfield, MO | April 13, 2015.
91,723 | AVX Corporation, Olean Advanced Products Division | Olean, NY | April 21, 2015.

The following certifications have been issued. The requirements of Section 222(b) (supplier to a firm whose workers are certified eligible to apply for TAA) of the Trade Act have been met.

TA-W No. | Subject firm | Location | Impact date
86,094 | Optical Disc Solutions, Inc., Austerman Holdings, LLC, Manpower | Richmond, IN | June 15, 2014.
86,129 | Frog, Switch, and Manufacturing Company | Carlisle, PA | June 19, 2014.
90,326 | Auto Warehousing Company | Normal, IL | January 1, 2014.
91,152 | PetroChoice, LLC | Chisholm, MN | November 17, 2014.
91,216 | Custom Metal Finishers, Inc | Mountain View, MO | December 4, 2014.
91,227 | Oakland Stamping LLC, L&W Group, Impact | Lake Orion, MI | December 14, 2014.
91,231 | Sodecia North America | Lake Orion, MI | December 14, 2014.
91,320 | Jamar Company | Duluth, MN | January 8, 2015.
91,324 | Baldwin Supply Company | Hibbing, MN | January 8, 2015.
91,326 | VanHouse Services, LLC | Silver Bay, MN | January 11, 2015.
91,345 | Champion Charter Sales & Service, Gundlach Champion, Inc | Hibbing, MN | January 14, 2015.
91,429 | Industrial Lubricant Company | Grand Rapids, MN | February 3, 2015.
91,430 | Gardner Chipmills Millinocket, LLC | Millinocket, ME | February 3, 2015.
91,535 | General Electric Company, GE Transportation Division, Adecco USA, TCS (TATA), Chemetall US Inc., etc | Grove City, PA | March 1, 2015.
91,583 | Dyno Nobel Inc., Incitec Pivot Limited | Biwabik, MN | March 11, 2015.
91,595 | Vuteq USA, Inc., Illinois Division, Manpower, PeopleLink Staffing, Pridestaff | Normal, IL | March 15, 2015.
91,602 | Accuride Corporation, Wheels Division, Skills Employment Personnel | Camden, SC | March 16, 2015.

The following certifications have been issued. The requirements of Section 222(e) (firms identified by the International Trade Commission) of the Trade Act have been met.

TA-W No. | Subject firm | Location | Impact date
91,590 | Madison Paper Industries, UPM-Kymmene Inc., and Northern SC Paper Corporation, WD Watthews, etc | Madison, ME | December 9, 2014.
91,617 | Boise White Paper, LLC, Boise, Inc., Boise Paper Holdings, LLC, Bartlett & Associates | International Falls, MN | July 4, 2015.

Negative Determinations for Worker Adjustment Assistance

In the following cases, the investigation revealed that the eligibility criteria for worker adjustment assistance have not been met for the reasons specified.

The investigation revealed that the criterion under paragraph (a)(1) or (b)(1) (employment decline or threat of separation) of section 222 has not been met.

TA-W No. | Subject firm | Location | Impact date
85,035 | Hewlett Packard Company, LaserJet Hardware, LaserJet Enterprise Solutions, Printing and Personal | Ft. Collins, CO. |
85,035A | Hewlett Packard Company, Customer Assurance, LaserJet Enterprise Solutions, Printing and Personal | Ft. Collins, CO. |
85,035C | Hewlett Packard Company, Industrial Design Group, LaserJet Hardware, etc | Boise, ID. |
85,261C | Hibu Inc., Hibu Holding (USA), Inc., Aerotek, Insight Global, Inc., Office Team, etc | Spokane Valley, WA. |
85,500 | J.R. Simplot Company, Food Group Division, Scale House, Barrett Business Services, Inc. (BBSI) | Moses Lake, WA. |
85,500A | J.R. Simplot Company, Food Group Division, Barrett Business Services, Inc. (BBSI), Best Temporary | Othello, WA. |
90,292 | Wells Fargo Home Mortgage Servicing, Wells Fargo Consumer Lending Group, Aerotrek, AppleOne, Randstand, etc | West Des Moines, IA. |
90,293 | Wells Fargo Home Mortgage, Wells Fargo Consumer Lending Group, Aerotek, ER Select, etc | West Des Moines, IA. |
90,295 | Wells Fargo Home Mortgage, Wells Fargo Consumer Lending Group, Aerotek, ER Select, etc | Des Moines, IA. |
90,296 | Wells Fargo Home Mortgage, Wells Fargo Consumer Lending Group, Aerotek, ER Select, etc | Urbandale, IA. |
90,313 | D+H USA Corporation, Finance Department, DH Corporation, Volt Services Group, RPG, KForce | Portland, OR. |
91,025 | YKK (U.S.A.) Inc., S&B Division, Quality Department, YKK Corporation of America | Lawrenceburg, KY. |

The investigation revealed that the criteria under paragraphs (a)(2)(A)(i) (decline in sales or production, or both) and (a)(2)(B) (shift in production or services to a foreign country) of section 222 have not been met.

TA-W No. | Subject firm | Location | Impact date
85,020 | FCI USA LLC, FCI Asia Pte. Ltd., JFC Staffing, The Drexel Group | Etters, PA. |
85,113 | Rocktenn Company, Southeast Texas Business Unit, Grand Prairie Container | Grand Prairie, TX. |
85,456 | Microsoft Corporation | Redmond, WA. |
85,525 | Amgen Inc | Longmont, CO. |
86,026 | Gardner Denver, Tulsa Division, KKR, People Source | Tulsa, OK. |
86,057 | Fairmount Santrol, FML Sand, Inc., Brewer Mine, Manpower | Perryville, MO. |
91,360 | Amsted Rail Co., Inc., Amsted Industries Incorporated, Kelly Services, Accountemps, etc | Granite City, IL. |
91,465 | Traeger Pellet Grills, LLC, Corporate Office | Portland, OR. |
91,577 | Lelege USA Corporation, TrendHR, ADP Total Source | Dallas, TX. |

The investigation revealed that the criteria under paragraphs (a)(2)(A) (increased imports) and (a)(2)(B) (shift in production or services to a foreign country) of section 222 have not been met.

TA-W No. | Subject firm | Location | Impact date
85,036 | Kelsey-Hayes Company, TRW Automotive, Adecco Employment Services, Kelly Services, etc | Sterling Heights, MI. |
85,099 | Harrington Tool Company | Ludington, MI. |
85,102 | Northport USA LLC, Northport Holdings Private Limited | Wilkes Barre, PA. |
85,109 | Sharp Manufacturing Co. of America (SMCA), Sharp Electronics Corporation, Aerotek Commercial, etc | Memphis, TN. |
85,115 | Hoax Films, LLC, Digital Artist Agency | Los Angeles, CA. |
85,185 | Broadridge Financial Solutions, Inc | Jersey City, NJ. |
85,194 | Med-Fit Systems, Inc., Virginia Division | Independence, VA. |
85,371 | Contacts Metals and Welding, Inc | Indianapolis, IN. |
85,413 | Shine Electronics Company, Inc., Active Staffing, Segue Staffing | Long Island City, NY. |
85,419 | Cinram Group Inc., Najafi Companies, Dynamic Staffing | Olyphant, PA. |
85,435 | American IT Solutions, Help Desk, Boehringer Ingelheim | Danbury, CT. |
85,441 | Keystone Calumet, Inc | Chicago Heights, IL. |
85,464 | Exelis Incorporated, Night Vision & Communication Solutions (NVCS) Division, Tad PGS, etc | Roanoke, VA. |
85,488 | Sig Sauer, Inc., Key Partners, Inc., JVT Advisors, KBW Financial Staffing & Recruiting, etc | Newington, NH. |
85,496 | Remington Arms, Inc., Remington Outdoor Company, First Choice Staffing | Ilion, NY. |
85,540 | Quantum Spatial, Inc., Aero-Metric, Inc | Sheboygan, WI. |
85,595 | Quad/Graphics, Woodstock Division, Quad/Graphics, Inc., Masterson Staffing Solutions | Woodstock, IL. |
85,613 | Midair USA Inc., Midair SA, Inka Tech, Aviation Recruitment Services | Rome, NY. |
85,661 | AMFIRE Mining Company, LLC, Portage Plant, Alpha Natural Resources, David Stanley Consultants, etc | Portage, PA. |
85,661A | Maxxim Shared Services, LLC, Alpha Natural Resources, Inc | Latrobe, PA. |
85,661B | AMFIRE Mining Company, LLC, Clymer Prep Plant, Alpha Natural Resources, Inc., David Stanley, Spherion | Clymer, PA. |
85,661C | AMFIRE Mining Company, LLC, Clearfield Co. Strips Mine, Alpha Natural Resources, Inc | Frenchville, PA. |
85,661D | AMFIRE Mining Company, LLC, Somerset Co. Surface Mine, Alpha Natural Resources, Inc | Rockwood, PA. |
85,661E | AMFIRE Mining Company, LLC, Indiana County Mine, Alpha Natural Resources, Inc | Indiana, PA. |
85,661F | AMFIRE Mining Company, LLC, Hamilton Shop, Alpha Natural Resources, Inc | Hamilton, PA. |
85,661G | AMFIRE Mining Company, LLC, Cambria Pitt 001 Mine, Alpha Natural Resources, Inc | Mineral Point, PA. |
85,661H | AMFIRE Mining Company, LLC, Nolo Mine, Alpha Natural Resources, Inc., David Stanley, Spherion | Penn Run, PA. |
85,661I | AMFIRE Mining Company, LLC, Ondo Extension Mine, Alpha Natural Resources, Inc., David Stanley, Spherion | Indiana, PA. |
85,661J | AMFIRE Mining Company, LLC, Gilhouser Run Mine, Alpha Natural Resources, Inc., David Stanley, Spherion | Homer City, PA. |
85,661K | AMFIRE Mining Company, LLC, Madison Mine, Alpha Natural Resources, Inc., David Stanley, Spherion | Mineral Point, PA. |
85,661L | AMFIRE Mining Company, LLC, Centre County Strips, Alpha Natural Resources, Inc | Philipsburg, PA. |
85,661M | AMFIRE Mining Company, LLC, Clearfield Tipple, Alpha Natural Resources, Inc | Clearfield, PA. |
85,661N | AMFIRE Mining Company, LLC, Barrett Mine, Alpha Natural Resources, Inc., David Stanley, Spherion | Homer City, PA. |
85,758 | Oxane Materials, Inc., TEC Staffing | Van Buren, AR. |
85,781 | Asahi America, Inc., Asahi Yukizai | Lawrence, MA. |
85,813 | Tyson Foods, Inc., Prepared Foods Division | Santa Teresa, NM. |
85,849 | Zemco Industries, Inc., Prepared Foods Division, Tyson Foods, Inc., Snelling, Aerotech & SPS Temps | Buffalo, NY. |
85,921 | Avaya, Inc., 8744 Lucent Boulevard, Global Support Services (GSS), Avaya Client Services | Highlands Ranch, CO. |
86,002 | Cameron, Valves & Measurement Division | Little Rock, AR. |
86,052 | MI SWACO, A Schlumberger Company, Southwestern Wire Cloth Inc. Division, Schlumberger, Nesco Resource, etc | Broken Arrow, OK. |
86,068 | Rockwell Collins, Rockwell Collins, Inc., Shared Services Division, Allegis Group Services | Calexico, CA. |
86,095 | Essentra H&PC | Evansville, IN. |
86,097 | Heritage Glass LLC, ACG Flat Glass North America, Inc., Heritage Manufacturing Company, Inc | Kingsport, TN. |
86,103 | TRC Pipeline Services LLC, F/K/A Willbros Engineers (U.S.) LLC, TRC Solutions, Inc | Tulsa, OK. |
86,106 | Tucker Energy Services, Inc., Tucker Energy Services LTD, Trucker Energy Services Holdings, etc | Tulsa, OK. |
90,045 | ENGlobal Government Services, Inc., ENGlobal Corporation, SWDS, LLC and The Rowland Group | Tulsa, OK. |
90,072 | Leam Drilling Systems, LLC | Oklahoma City, OK. |
90,072A | Leam Drilling Systems, LLC | New Iberia, LA. |
90,072B | Leam Drilling Systems, LLC | Dickinson, ND. |
90,072C | Leam Drilling Systems, LLC | Conroe, TX. |
90,072D | Leam Drilling Systems, LLC | Midland, TX. |
90,072E | Leam Drilling Systems, LLC | Morgantown, WV. |
90,088 | Rehme Manufacturing, Inc., Express Services, Inc | Marlow, OK. |
90,125 | Owens-Brockway Glass Container, Inc., Owens-Brockway Packaging, Inc., Owens-Illinois Group, Inc., etc | Oakland, CA. |
90,198 | Yupana LLC, RSSI Field Services | Walnut Creek, CA. |
90,201 | Desmi-Afti, Inc | Orchard Park, NY. |
90,202 | Extreme Networks, Inc., Cenepa and Associates, CV Partners, Inc., DeWinter Consulting, etc | San Jose, CA. |
90,202A | Extreme Networks, Inc., Beacon Hill Staffing Services, Canepa and Associates, Slalom, LLC, etc | Salem, NH. |
90,204 | FTS International Services, LLC, FTS International, Inc | Chickasha, OK. |
90,219 | Morgan Advanced Materials and Technology, Inc., Morgan Advanced Materials, Global Seals and Bearings | Coudersport, PA. |
90,229 | Carrier Corporation, North America Truck Trailer Aftermarket Parts Group, etc | East Syracuse, NY. |
90,283 | Equifax, Inc., Datavision Resources LLC—Carlisle Office Division, Aerotek | Carlisle, IA. |
90,290 | Pioneer Wireline Services, Mid-Continent Division, Pioneer Energy Services | Hays, KS. |
90,309 | Visteon Holland Technical Center, Electronics Division, Visteon Corporation, MSX International | Holland, MI. |
90,337 | Wilson Trailer Company | Sioux City, IA. |
91,010 | Baker Hughes Incorporated, Pressure Pumping, Kelly Services | Yukon, OK. |
91,010A | Baker Hughes Incorporated, Drilling Services, Kelly Services | Oklahoma City, OK. |
91,049 | El Paso Times, Texas/New Mexico Newspapers PSHP, Gannett Company, Inc., RMPersonnel, Inc | El Paso, TX. |
91,100 | CSX Transportation, Inc., CSX Corporation | Corbin, KY. |
91,137 | Baker Hughes, Inc., Southern Area—Pressure Pumping Product Line, etc | San Antonio, TX. |
91,181 | Horizon Energy Services LLC | Stillwater, OK. |
91,204 | Globo Mobile Technologies Inc., Globo PLC, PEO—ADP TotalSource | Canfield, OH. |
91,310 | Malton Electric Company | Virginia, MN. |
91,325 | Essar Steel Minnesota LLC, Essar Global Fund Limited, Express Employment Professional, etc | Hibbing, MN. |
91,380 | Gardner Denver Nash, LLC, R&D Engineering Department, The Marine Group, Gardner Denver Inc | Trumbull, CT. |
91,407 | Emerald Coal Resources, LP, Alpha Natural Resources, Inc., Emerald No. 8 Portal, GMS Mine, etc | Waynesburg, PA. |
91,426 | Van Air, Inc | Lake City, PA. |
91,432 | The Williams Companies, Inc., Supply Chain—OKC, Williams WPC-I, LLC | Oklahoma City, OK. |
91,452 | EOG Resources, Inc | Oklahoma City, OK. |
91,455 | Nitro-Lift Technologies, LLC | Mill Creek, OK. |
91,486 | Damper Design, Inc., Monocacyfabs, Inc | Bethlehem, PA. |
91,495 | Molycorp Metals and Alloys, Inc | Mountain Pass, CA. |
91,498 | Cascade Kelly Holdings LLC, DBA Columbia Pacific Bio-Refinery, Global Operating, LLC, Global GP LLC | Clatskanie, OR. |
91,504 | Atwood Oceanics Management, Inc | Houston, TX. |
91,529 | Bimbo Bakeries USA, Inc., Thrift Store | Spencer, IA. |
91,529A | Bimbo Bakeries USA, Inc., Thrift Store | Sioux City, IA. |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
90,111 | Coastal Closeouts, Inc., West Coast Rags | Vernon, CA
90,114 | FutureMark Manistique | Manistique, MI
90,329 | Blount, Inc., Blount International, Inc., Express Employment Professionals | Portland, OR
91,182 | Maverick Innovative Solutions, LLC | Ashland, OH
91,560 | General Cable, General Cable Corporation, Staffmark | Malvern, AR

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
86,053 | Medco/Express Scripts, Quality Assurance Technical Group, Princeton Information | Franklin Lakes, NJ
91,410 | Consol Energy, Inc | Canonsburg, PA
91,469 | Hermitage Wood Products, Inc | Pompano Beach, FL
91,488 | Montgomery Developmental Center, Department of Developmental Disabilities, State of Ohio | Huber Heights, OH

The following determinations terminating investigations were issued because the petitioning groups of workers are covered by active certifications. Consequently, further investigation in these cases would serve no purpose since the petitioning group of workers cannot be covered by more than one certification at a time.

TA-W No. | Subject firm | Location | Impact date
85,936 | Total Safety US, United State Steel Corporation, Fairfield Works-Flat Roll Operations, etc | Decatur, AL
90,110 | Boise White Paper, LLC, Boise Inc., Boise Paper Holdings, LLC, Bartlett & Associates | International Falls, MN
91,194 | Kelly Services, Baker Hughes Incorporated | Claremore, OK
91,297 | Magnetation LLC, Plant 4 | Grand Rapids, MN
91,403 | Radiant Systems, Kraft Foods Group Global, Inc | Woburn, MA
91,415 | HCL America Inc., ERS Division, HCL Technologies Ltd., HCL Bermuda Ltd., etc | Naperville, IL
91,473 | U.S. Security Associates Inc., Kraft Foods Group Global, Inc | Woburn, MA
91,547 | General Electric Company, Transportation Division | Erie, PA

The following determinations terminating investigations were issued because the petitions are the subject of ongoing investigations under petitions filed earlier covering the same petitioners.

TA-W No. | Subject firm | Location | Impact date
91,370 | Print Media, LLC | Tucker, GA
91,490 | Sprint | Blountville, TN
91,564 | Sprint | Temple, TX
91,571 | Molycorp Mt. Pass | Mountain Pass, CA
91,594 | Sprint Corporation, Wireless Call Center | Temple, TX

I hereby certify that the aforementioned determinations were issued during the period of March 28, 2016 through April 29, 2016. These determinations are available on the Department's Web site https://www.doleta.gov/tradeact/taa/taa_search_form.cfm under the searchable listing of determinations or by calling the Office of Trade Adjustment Assistance toll free at 888-365-6822.

Signed at Washington, DC, this 2nd day of May 2016.
Jessica R. Webster,
Certifying Officer, Office of Trade Adjustment Assistance.

[FR Doc. 2016-12094 Filed 5-23-16; 8:45 am]

BILLING CODE 4510-FN-PA24MY3.